FEDERAL COMMUNICATIONS COMMISSION

First Meeting of the Advisory Committee for the 2003 World Radiocommunication Conference (WRC-03 Advisory Committee)

AGENCY: Federal Communications Commission.

ACTION: Notice.

SUMMARY: In accordance with the Federal Advisory Committee Act, this notice advises interested persons that the initial meeting of the WRC-03 Advisory Committee will be held on January 30, 2001, at the Federal Communications Commission. The purpose of the meeting is to begin preparations for the 2003 World Radiocommunication Conference.

DATES: January 30, 2001; 10:00 am-12:00 noon.

ADDRESSES: Federal Communications Commission, 445 12th Street, SW., Room TW-C305, Washington, DC 20554.

FOR FURTHER INFORMATION CONTACT: Julie Garcia, FCC International Bureau, Planning and Negotiations Division, at (202) 418-0763.

SUPPLEMENTARY INFORMATION: As part of its preparations for the 2003 World Radiocommunication Conference (WRC-03), the Federal Communications Commission (FCC) has amended the charter of its Advisory Committee for the 2000 Radiocommunication Conference. The Advisory Committee will now be called the Advisory Committee for the 2003 Radiocommunication Conference, and its scope of activities will be to address issues contained in the agenda for WRC-03. The Federal Communications Commission (FCC) established the WRC-03 Advisory Committee to provide advice, technical support and recommendations relating to the preparation of United States proposals and positions for the 2003 World Radiocommunication Conference (WRC-03).

In accordance with the Federal Advisory Committee Act, Public Law 92-463, as amended, this notice advises interested persons of the first meeting of the WRC-03 Advisory Committee. The WRC-03 Advisory Committee has an open membership. All interested parties are invited to participate in the Advisory Committee and to attend its meetings. The proposed agenda for the first meeting is as follows:

Agenda

First Meeting of the WRC-03 Advisory Committee, Federal Communications Commission, 445 12th Street, SW., Room TW-C305, Washington, DC 20554.

January 30, 2001; 10:00 am-12:00 noon.

1. Opening Remarks.

2. Approval of Agenda.

3. Report on Suggestions for Improving the WRC Preparatory Process.

4. Outline of WRC-03 Preparatory Process.

5. Advisory Committee Structure and Meeting Schedule.

6. Report on Recent International Telecommunication Union Meetings.

7. Other Business.

Federal Communications Commission.
William F. Caton,
Deputy Secretary.

[FR Doc. 01-1037 Filed 1-11-01; 8:45 am]

BILLING CODE 6712-01-U